DEPARTMENT OF TRANSPORTATION

Federal Railroad Administration

Notice of Informational Meeting Regarding Applications for SAFETEA-LU Magnetic Levitation Project Selection

AGENCY: Federal Railroad Administration (FRA), Department of Transportation (DOT).

ACTION: Notice of informational meeting concerning applications for grants to existing magnetic levitation (maglev) projects located east of the Mississippi River.

SUMMARY: On October 16, 2008, the Federal Railroad Administration (FRA) published a Notice of Funds Availability in the Federal Register. (FR Vol. 73, No. 201/Thursday October 16, 2008, pg 61449) In that Notice, FRA solicited applications from eligible applicants for $45 million authorized by section 1307 of the Safe, Accountable, Flexible, Efficient Transportation Equity Act: A Legacy for Users (SAFETEA-LU) for preconstruction activities and capital costs of fixed guideway infrastructure of maglev projects east of the Mississippi River. (That notice and this notice do not apply to the maglev project between Las Vegas and Primm, NV.) Based upon the Joint Explanatory Statement of the House Transportation and Infrastructure Committee and the Senate Environmental and Public Works Committee, and the Senate Committee on Commerce, Science and Transportation, Congress explained its intent “to limit the eligible projects to three existing projects east of the Mississippi River: Pittsburgh, Baltimore-Washington, and Atlanta-Chattanooga.”

Proponents of eligible projects have requested meetings with FRA to clarify the application requirements. Because of the competitive nature of the application process, FRA will hold an open meeting where interested proponents of any of these three projects might discuss application requirements with FRA, in a forum that will permit proponents of all eligible projects to benefit from these discussions. All questions and responses will be available in summary form on FRA's Web site after the meeting.

DATES: The meeting will be held on Wednesday December 17, 2008, between 9:30 and 11 a.m., in room 7 of the first floor conference center in the west building of the U.S. Department of Transportation headquarters, 1200 New Jersey Ave., SE., Washington, DC 20590. To expedite clearance through building security, persons interested in attending must notify FRA at the point of contact below of their intent to attend by close of business Tuesday, December 16. Persons unable to attend with questions concerning the application process may submit these questions via email to the contact identified below.

To Express Intent to Attend the Meeting, or to Submit Questions to be Addressed at the Meeting, Contact:Rachell Macklin, Office of Railroad Development (RDV-13), Federal Railroad Administration at Rachell.Macklin@dot.gov or by phone at (202) 493-6340 or by fax at (202) 493-6330.

FOR FURTHER INFORMATION CONTACT: Peter Montague, Chief, Program Implementation Division, Office of Railroad Development, Federal Railroad Administration at Peter.Montague@dot.gov or by phone at (202) 493-6381 or by fax at (202) 493-6330.

Issued in Washington, DC, on December 8, 2008.
Mark E. Yachmetz,
Associate Administrator for Railroad Development.

[FR Doc. E8-29531 Filed 12-12-08; 8:45 am]

BILLING CODE 4910-06-P